DEPARTMENT OF TRANSPORTATION

Federal Highway Administration

Environmental Impact Statement: High Desert Corridor, State Route 18

AGENCY: Federal Highway Administration (FHWA), DOT.

ACTION: Notice of Intent.

SUMMARY: This notice is to inform agencies and the public that an Environmental Impact Statement (EIS) will be prepared for a project in San Bernardino, California. Furthermore, it is advised that environmental review, consultation, and any other action required in accordance with applicable Federal laws and regulations for this project is being, or has been, carried out by the California Department of Transportation (Caltrans) under its July 1, 2007 assumption of all the United States Department of Transportation (USDOT) Secretary's responsibilities under National Environmental Policy Act (NEPA) pursuant to Section 6005 of SAFETEA-LU codified in 23 U.S.C. 327(a)(2)(A).

FOR FURTHER INFORMATION CONTACT: Mr. Russell Williams, Acting Office Chief, Environmental Oversight, California Department of Transportation District 8, 464 W. Fourth Street, San Bernardino, CA 92401. Telephone: (909) 383-1554.

SUPPLEMENTARY INFORMATION: The California Department of Transportation (Caltrans), in cooperation with the city of Victorville, will prepare an EIS on the proposal to construct a portion of the High Desert Corridor (HDC), in San Bernardino County, California. The proposed project would involve construction of a freeway/expressway to realign State Route (SR) 18 on new alignment from US 395 in the City of Adelanto to SR 18 near the Town of Apple Valley for a distance of approximately 21 miles. This notice of intent is prepared in accordance with 40 CFR 1501.7 and 1508.22.

In addition, to NEPA, the project is required to comply with the efficient environmental review process pursuant to the Safe, Accountable, Flexible and Efficient Transportation Equity Act of 2003—A Legacy for Users (SAFETEA-LU) Section 6002 codified at 23 U.S.C. 138. The process is intended to promote efficient project management by the NEPA lead agency and to provide enhanced opportunities for coordination and accountability with the public as, well as, Federal, State, local, and tribal government agencies during the project development process. The process will include activities such as invitation of participating and cooperating agencies, preparation of a coordination plan, and establishment of a statute of limitations on the EIS. Pursuant to SAFETEA-LU Section 6002, sponsor agencies are required to notify the Secretary of Transportation of the type of work, termini, length, and general location of the project, together with a statement of Federal approvals anticipated to be necessary for the proposed project. Issuance of this notice will serve to meet these requirements for initiation of the environmental review process.

Currently, SR 18 exists as a four-lane conventional highway with numerous signalized intersections, business districts and congestion bottlenecks which restrict accessibility and mobility for east-west travel, and reduces throughput and safety for interregional travel in Victor Valley. The purpose of the project is to maximize accessibility to major economic generators such as the Southern California Logistics Airport and the industrial park surrounding Apple Valley Airport, improve mobility for interregional travel and truck/goods movement by providing freeway/expressway connectivity between regional routes US 395, I-15, and SR 18. Improvements to the corridor are considered necessary to alleviate the projected traffic demand for the increasing population growth in the area. Another goal of the project is to maintain consistency with the overall development of the High Desert Corridor and the future Victor Valley Beltway.

It is proposed to construct a “stand alone” phase of the HDC in Victor Valley from US 395 in Adelanto to SR 18 of the Town of Apple Valley, a distance of approximately 21 miles. A preferred Alternative has not been selected at this point, but two Build Alternatives will be analyzed along with the No-Build Alternative. Alternative 1, known as the north alignment, would construct the HDC as a multi-lane freeway/expressway on new alignment from U.S. 395 to continue east between the Southern California Logistics Airport and the proposed new Federal Prison in Victorville. The new alignment would cross the Mojave River and the BNSF mainline, intersect I-15 north of the Stoddard Wells Road Interchange, travel east through the industrial section of the Town of Apple Valley, then turn south to meet existing SR 18. In addition, at least 6 interchanges, 8 bridge/undercrossing structures, 5 grade intersections, and at least 300 ft. of right of way are proposed for Alternative 1.

Alternative 2, from US 395 to I-15, would follow the same alignment as Alternative 1 from U.S. 395 to just west of I-15. Alternative 2 would then swing south to tie into SR 18 near Rimrock Road. This section of the alternative from east of I-15 will be constructed as an access controlled highway. On the east of I-15, Alternative 2 will be on new alignment for about 3.5 miles and then it will replace existing SR 18 for about 6 miles. Alternative 2 will meet SR 18 in the same location as Alternative 1. In addition, at least 4 interchanges, 8 at grade intersections, and 200-300 ft of right of way are proposed for Alternative 2.

The two Alternatives will be studied and refined through efforts conducted under the National Environmental Policy Act (40 CFR parts 1500-1508 and 23 CFR part 771), the Clean Air Act Amendments, Section 404 of the Clean Water Act, Executive Order 12898 regarding Environmental Justice, the National Historic Preservation Act, the Federal Endangered Species Act, the Section 4(f) of the U.S. Department of Transportation Act, and other federal environmental protection laws, regulations, policies, and executive orders. Based on available information, the project is anticipated to require a Clean Water Act 404 permit, a right-of-way use permit from the Bureau of Land Management. In addition, consultation is anticipated under Section 7 of the FESA and Section 106 of the NHPA.

To ensure that the full range of issues related to this proposed action are addressed and all significant issues identified, comments, and suggestions are invited from all interested parties. The EIS will incorporate comments from the public scoping process as well as analysis from environmental and engineering technical studies. Other alternatives suggested during the scoping process would be considered during the development of the EIS. Letters describing the proposed action and soliciting comments will be sent to appropriate Federal, State, and Local agencies, and to private organizations and citizens who have previously expressed or are known to have interest in this proposal. Location and details of the public scoping meeting for the proposed project will be advertised in local newspapers and other media. Comments or questions concerning this proposed action and the EIS should be directed to Caltrans at the address indicated above.

(Catalog of Federal Domestic Assistance Program Number 20.205, Highway Planning and Construction. The regulations implementing Executive Order 12372 regarding intergovernmental consultation on Federal programs and activities apply to this program.)

Issued on: September 28, 2007.
David Tedrick,
Project Development Team Leader, South Region, California Division, Federal Highway Administration.

[FR Doc. 07-5049 Filed 10-11-07; 8:45 am]

BILLING CODE 4910-22-M